DEPARTMENT OF ENERGY

Federal Energy Regulatory Commission

[Docket No. IC20-21-000]

Commission Information Collection Activities (FERC-583); Comment Request; Extension With Revisions

AGENCY: Federal Energy Regulatory Commission, Department of Energy.

ACTION: Notice of information collection and request for comments.

SUMMARY: In compliance with the requirements of the Paperwork Reduction Act of 1995, the Federal Energy Regulatory Commission (Commission or FERC) is soliciting public comment on the currently approved information collection FERC-583 (Annual Kilowatt Generating Report (Annual Charges)) and is submitting the information collection to the Office of Management and Budget (OMB) for review. Any interested person may file comments directly with OMB and should address a copy of those comments to the Commission as explained below.

DATES: Comments on the collection of information are due November 16, 2020.

ADDRESSES: Send written comments on FERC-583 to OMB through www.reginfo.gov/public/do/PRAMain, Attention: Federal Energy Regulatory Commission Desk Officer. Please identify the OMB control number (1902-0136) in the subject line. Your comments should be sent within 30 days of publication of this notice in the Federal Register.

Please submit copies of your comments to the Commission (identified by Docket No. IC20-21-000) by any of the following methods:

• eFiling at Commission's Website: http://www.ferc.gov/docs-filing/efiling.asp.

• Mail/Express Services: Persons unable to file electronically may mail similar pleadings to the Federal Energy Regulatory Commission, 888 First Street NE, Washington, DC 20426.

• Hand delivered submissions in docketed proceedings should be delivered to Health and Human Services, 12225 Wilkins Avenue, Rockville, Maryland 20852.

Instructions:

OMB submissions must be formatted and filed in accordance with submission guidelines at www.reginfo.gov/public/do/PRAMain; Using the search function under the “Currently Under Review field,” select Federal Energy Regulatory Commission; click “submit” and select “comment” to the right of the subject collection.

FERC submissions must be formatted and filed in accordance with submission guidelines at: http://www.ferc.gov/help/submission-guide.asp. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION: Ellen Brown may be reached by email at DataClearance@FERC.gov and telephone at (202) 502-8663.

SUPPLEMENTARY INFORMATION:

Title: FERC-583, Annual Kilowatt Generating Report (Annual Charges).

OMB Control No.: 1902-0136.

Type of Request: Three-year extension of the FERC-583 information collection requirements, with the addition of two activities that are in use without a control number: (1) Application of a State or municipal licensee or exemptee for total or partial exemption from the assessment of annual charges; and (2) Appeals and requests for rehearing of billing for annual charges.

Abstract: FERC-583 is an existing information collection that enables the Commission to determine amounts of annual charges in accordance with section 10(e)(1) of the Federal Power Act (FPA),¹ section 3401 of the Omnibus Budget Reconciliation Act of 1986 (OBRA 1986),² and 18 CFR part 11. On June 16, 2020, the Commission published a Notice in the Federal Register in Docket No. IC20-21-000 inviting public comments.³ Public comments were due on August 17, 2020. No comments were filed in response to this Notice.

¹ 16 U.S.C. 803(e)(1).

² Public Law 99-5089, Title III, § 3401 (Oct. 21, 1986), 100 Stat. 1890 (codified at 42 U.S.C. 7178).

³ 85 FR 36396.

Types of Respondents: (1) Hydropower licensees of projects more than 1.5 megawatts of installed capacity; (2) Holders of exemptions under section 30 of the FPA ⁴; and (3) exemptees under sections 405 and 408 of the Public Utility Regulatory Policy Act.⁵

⁴ 16 U.S.C. 823a.

⁵ 16 U.S.C. 2705 and 2708.

Estimate of Annual Burden: The following table shows the estimated annual burdens:

A: Type of response | B: Number of respondents | C: Annual number of responses per respondent | D: Total number of responses | E: Average hours & cost per response | F: Total annual burden hours and total annual cost | G: Cost per respondent
|  |  | (col. B x col. C) |  | (col. D x col. E) | (col. F ÷ col. B)
Annual kilowatt generating report | 520 | 1 | 520 | 2 hrs.; $166 | 1,040 hrs.; $86,320 | $166
Application of a State or municipal licensee or exemptee for total or partial exemption from the assessment of annual charges | 48 | 1 | 48 | 2 hrs.; $166 | 96 hrs.; $7,968 | 166
Appeals and requests for rehearing of billing for annual charges | 3 | 1 | 3 | 40 hrs.; $3,320 | 120 hrs.; $9,960 | 3,320
Totals | 571 |  | 571 |  | 1,256 hrs,; $104,248 |

Comments: Comments are invited on: (1) Whether the collection of information is necessary for the proper performance of the functions of the Commission, including whether the information will have practical utility; (2) the accuracy of estimate of the burden and cost of the collection of information, including the validity of the methodology and assumptions used; (3) ways to enhance the quality, utility and clarity of the information collection; and (4) ways to minimize the burden of the collection of information on those who are to respond, including the use of automated collection techniques or other forms of information technology.

Dated: October 9, 2020.
Kimberly D. Bose,
Secretary.

[FR Doc. 2020-22933 Filed 10-15-20; 8:45 am]

BILLING CODE 6717-01-P